DEPARTMENT OF AGRICULTURE

Submission for OMB Review; Comment Request

April 25, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Business Cooperative Service

Title: 7 CFR 4284-G, Rural Business Opportunity Grants.

OMB Control Number: 0570-0024.

Summary of Collection: The Rural Business Opportunity Grant (RBOG) program was authorized by section 741 of the Federal Agriculture Improvement and Reform Act of 1996, Public Law 104-127. The objective of the RBOG program is to promote sustainable economic development in rural areas. This purpose is achieved through grants made by the Rural-Business Cooperative Service (RBS) to public and private non-profit organizations and cooperatives to pay costs of economic development planning and technical assistance for rural businesses.

Need and Use Of The Information: The information collected is from grant applicants and grant recipients. Grantees are required to keep complete and accurate accounting records as evidence that the grant funds were used properly. The information is necessary for RBS to process applications in a responsible manner, make prudent program decisions, and effectively monitor the grantees' activities to ensure that funds obtained from the Government are used appropriately.

Description of Respondents: Business or other for-profit; State, Local or Tribal Government.

Number of Respondents: 100.

Frequency of Responses: Recordkeeping; Reporting: On occasion; Quarterly; Monthly .

Total Burden Hours: 8,044.

Animal and Plant Health Inspection Service

Title: Fruit from Hawaii.

OMB Control Number: 0579-0123.

Summary of Collection: The United States Department of Agriculture is responsible for preventing plant diseases or insect pests from spreading within the United States. The Plant Quarantine Act authorizes the Department to carry out this mission. Chapter 8 of the Plant Quarantine Act (& U.S.C. 161) provides authority for the Secretary of Agriculture and the Animal and Plant Health Inspection Service (APHIS) to Quarantine any State, Territory, or District of the United States to prevent the spread of plant diseases and insect pests (such as fruit flies) new or widely distributed throughout the United States. APHIS regulates the interstate movement of fruits and vegetables from Hawaii to prevent the spread of Mediterranean fruit fly, the melon fly, the Oriental fruit fly, and the Malaysian fruit fly pests that occur in Hawaii and can cause millions of dollars in damage to U.S. agriculture. APHIS will collect information using several forms to ensure fruits from Hawaii are free from pests and disease.

Need and Use of the Information: APHIS will collect information using forms PPQ 540, PPQ 530, PPQ 519 to ensure abui, atemoya, bananas, longan, rambutan, sapodilla, and durian from Hawaii are brought safely into the United States.

Description of Respondents: Business or other for-profit.

Number of Respondents: 300.

Frequency of Responses: Recordkeeping; Reporting: On occasion.

Total Burden Hours: 327.

Animal and Plant Health Inspection Service

Title: Imported Seed and Screening.

OMB Control Number: 0579-0124.

Summary of Collection: The United States Department of Agriculture (USDA) is responsible for preventing plant diseases or insect pests from entering the United States, preventing the spread of pests not widely distributed in the United States, and eradicating those imported pest when eradication is feasible. The Plant Quarantine Act and the Federal Plant Pest Act authorizes the Department to carry out this mission. Under the authority of the Federal Seed Act of 1939, as amended, the USDA regulates the importation and interstate movement of certain agricultural and vegetable seeds. The Plant Protection & Quarantine Division of USDA's Animal & Plant Health Inspection Service (APHIS) has established a seed analysis program with Canada that allows U.S. companies that import seed for cleaning or processing to enter into compliance agreements with APHIS. This program eliminates the need for sampling shipments of Canadian-origin seed at the border and allows certain seed importers to clean seed without the direct supervision of an APHIS inspector. APHIS will collect information using forms PPQ 925 and PPQ 519.

Need and Use of the Information: APHIS will collect information to prevent the spread of insect pests and noxious weeds in the United States. If the information were not collected there would be no way of preventing noxious weeds from entering the United States.

Description of Respondents: Business or other for-profit.

Number of Respondents: 30,000.

Frequency of Responses: Recordkeeping; Reporting: On occasion.

Total Burden Hours: 11,345.

Animal and Plant Health Inspection Service

Title: Plum Pox Compensation.

OMB Control Number: 0579-0159.

Summary of Collection: Plum Pox is an extremely serious viral disease of plants that can affect may stonefruit species, including plum, peach, apricot, almond, and nectarine. The United States Department of Agriculture is responsible for preventing plant pest and noxious weeds from entering the United States, preventing the spread of pests and weeds not widely distributed in the United States and eradicating those imported pests and weeds when eradication is feasible. Chapter 8 of the Plant Quarantine Act (7 U.S.C. 161) provides authority for the Secretary of Agriculture to quarantine any State, Territory, or District of the United States to prevent the spread of insect pests and plant diseases new or not widely distributed throughout the United States. Section 102 of the Organic Act (7 U.S.C. 147a) states, in part, that “the Secretary of Agriculture, either independently or in cooperation with the States * * * is authorized to carry out operations or measures to detect, eradicate, suppress, control, prevent, or retard the spread of plant pests.” The Animal & Plant Health Inspection Service (APHIS) will collect information using form PPQ 651, Application for Plum Pox Compensation, in order to qualify agricultural producers for disaster payments in conjunction with losses suffered as a result of Plum Pox.

Need and Use of the Information: APHIS will collect the owner's name and address, a description of the owner's property, and a certification statement that the plums removed from the owner's property were commercial plums. The owners will also need to send APHIS a copy of the public order or destruction order that describes the number of plum trees removed. The information will be used to obtain the correct address to which funds are to be sent, and to verify the location and number of plum trees for which the owner is requesting replacement funds. If the information were not collected, APHIS would be unable to reimburse eligible grove and nursery owners for the loss of their trees.

Description of Respondents: Business or other for-profit.

Number of Respondents: 12.

Frequency of Responses: Reporting: On occasion.

Total Burden Hours: 2.

Animal and Plant Health Inspection Service

Title: District of Columbia Plant Health Certificate.

OMB Control Number: 0579-0166.

Summary of Collection: The United States Department of Agriculture is responsible for preventing plant pests and noxious weeds from entering the United States, preventing the spread of pests and weeds not widely distributed in the United States and eradicating those imported pests and weeds when eradication is feasible. The Federal Plant Protection Act authorized the Department to carry out this mission. The Plant Protection and Quarantine (PPQ) Division of the Animal and Plant Health Inspection Service (APHIS) provides certification services for plant material moving interstate to ensure other states that the plants and plant products they are receiving from the District of Columbia are free of prohibited or otherwise regulated plant pests. APHIS will collect information using form PPQ 571, District of Columbia Plant Health Certificate.

Need and Use of the Information: APHIS will collect information to certify that the domestic plant or other plant material described by the shipper has been inspected according to appropriate procedures and that it is considered free from certain plant diseases, insects, or other pests, and is considered to conform with the requirements of the importing State. If the information is not collected, it would likely result in the interstate spread of damaging agricultural pests. Further, entities in the District of Columbia would be unable to ship their products to other States, as other States require this certification.

Description of Respondents: Business or other for-profit; Not-for-profit institutions.

Number of Respondents: 4.

Frequency of Responses: Reporting: On occasion.

Total Burden Hours: 40.

Nancy B. Sternberg,
Departmental Clearance Office.

[FR Doc. 01-10745 Filed 4-30-01; 8:45 am]

BILLING CODE 3410-01-M